DEPARTMENT OF AGRICULTURE

Agricultural Marketing Service

7 CFR Part 1220

[No. LS-00-04]

Soybean Promotion and Research: Amend the Order To Adjust Representation on the United Soybean Board

AGENCY: Agricultural Marketing Service, USDA.

ACTION: Final rule.

SUMMARY: This final rule adjusts the number of members for certain States on the United Soybean Board (Board) to reflect changes in production levels that have occurred since the last time the Board was reapportioned in 1997. These adjustments are required by the Soybean Promotion and Research Order (Order). The results of the adjustments are an additional member for Kansas and one less member for Maryland. As a result of these changes, the total Board membership will remain at 62 members. These changes to the Board are effective with the Secretary's 2001 appointments.

EFFECTIVE DATE: November 24, 2000.

FOR FURTHER INFORMATION CONTACT: Ralph L. Tapp, Chief; Marketing Programs Branch; Livestock and Seed Program; Agricultural Marketing Service (AMS), USDA, Room 2627-S; STOP 0251; 1400 Independence Avenue, SW.; Washington, D.C. 20250-0251; telephone 202/720-1115; fax 202/720-1125; or e-mail to Ralph.Tapp@usda.gov.

SUPPLEMENTARY INFORMATION:

Executive Orders 12866 and 12988, Regulatory Flexibility Act and the Paperwork Reduction Act

The Department of Agriculture (Department) is issuing this rule in conformance with Executive Order 12866.

This rule was reviewed under Executive Order 12988, Civil Justice Reform. It is not intended to have a retroactive effect. This rule would not preempt any State or local laws, regulations, or policies unless they present an irreconcilable conflict with this rule.

The Soybean Promotion, Research, and Consumer Information Act (Act) provides that administrative proceedings must be exhausted before parties may file suit in court. Under § 1971 of the Act, a person subject to the Order may file a petition with the Secretary stating that the Order, any provision of the Order, or any obligation imposed in connection with the Order, is not in accordance with law and requesting a modification of the Order or an exemption from the Order. The petitioner is afforded the opportunity for a hearing on the petition. After a hearing, the Secretary would rule on the petition. The Act provides that the district courts of the United States in any district in which such person is an inhabitant, or has their principal place of business, has jurisdiction to review the Secretary's ruling on the petition, if a complaint for this purpose is filed within 20 days after the date of the entry of the ruling.

Effect on Small Entities

AMS has determined that this final rule will not have a significant economic impact on a substantial number of small entities as defined by the Regulatory Flexibility Act (5 U.S.C. 601 et seq.), because it only adjusts representation on the Board to reflect changes in production levels that have occurred since the Board was reapportioned in 1997. As such, these changes will not impact on persons subject to the program. There are an estimated 600,813 soybean producers who pay assessments and an estimated 10,000 first purchasers who collect assessments, most of whom would be considered small entities under the criteria established by the Small Business Administration (13 CFR 121.201).

Background and Changes

The Act (7 U.S.C. 6301-6311) provides for the establishment of a coordinated program of promotion and research designed to strengthen the soybean industry's position in the marketplace, and to maintain and expand domestic and foreign markets and uses for soybeans and soybean products. The program is financed by an assessment of 0.5 percent of the net market price of soybeans sold by producers. Pursuant to the Act, an Order was made effective July 9, 1991. The Order established a Board of 60 members. For purposes of establishing the Board, the United States was divided into 31 geographic units. Representation on the Board from each unit was determined by the level of production in each unit. The Secretary appointed the initial Board on July 11, 1991. The Board is composed of soybean producers.

Section 1220.201(c) of the Order provides that at the end of each 3-year period, the Board shall review soybean production levels in the geographic units throughout the United States. The Board may recommend to the Secretary modification in the levels of production necessary for Board membership for each unit. At its March 2000 meeting the Board voted to recommend to the Secretary that no modification be made.

Section 1220.201(d) of the Order provides that at the end of each 3-year period, the Secretary must review the volume of production of each unit and adjust the boundaries of any unit and the number of Board members from each such unit as necessary to conform with the criteria set forth in § 1220.201(e): (1) To the extent practicable, States with annual average soybean production of less than 3,000,000 bushels shall be grouped into geographically contiguous units, each of which has a combined production level equal to or greater than 3,000,000 bushels, and each such group shall be entitled to at least one member on the Board; (2) units with at least 3,000,000 bushels, but fewer than 15,000,000 bushels shall be entitled to one Board member; (3) units with 15,000,000 bushels or more but fewer than 70,000,000 bushels shall be entitled to two Board members; (4) units with 70,000,000 bushels or more but fewer than 200,000,000 bushels shall be entitled to three Board members; and (5) units with 200,000,000 bushels or more shall be entitled to four Board members.

A proposed rule was published in the Federal Register (65 FR 30922), on May 15, 2000, with a 60-day comment period. One comment was received from the Chairman of the United Soybean Board. The comment states that “the reapportionment appears to be appropriate under the formula mandated by the Soybean Promotion, Research, and Consumer Information Act.”

Based on the comment received and the requirements of the Act and the Order, AMS is adjusting the representation on the Board as proposed; one additional member for Kansas and one less member for Maryland.

Board membership remains at 62 and is based on average production levels for the years 1995-1999 (excluding crops in years that production was the highest and that production was the lowest) as reported by the National Agricultural Statistics Service. Board member adjustments are effective with the 2001 nominations and appointments.

The number of geographical units remains at 30.

List of Subjects in 7 CFR Part 1220

Administrative practice and procedure, Advertising, Agricultural research, Marketing agreements, Soybeans and soybean products, Reporting and recordkeeping requirements.

For the reasons set forth in the preamble, Title 7, part 1220 is amended as follows:

Part 1220—Soybean Promotion, Research, and Consumer Information

1. The authority citation for 7 CFR part 1220 continues to read as follows:

Authority: 7 U.S.C. 6301-6311.

2. In § 1220.201, the table immediately following paragraph (a) is revised to read as follows:

§ 1220.201 Membership of board.

* * * * *

Unit | Number of members
Illinois | 4
Iowa | 4
Minnesota | 4
Indiana | 4
Missouri | 3
Ohio | 3
Arkansas | 3
Nebraska | 3
South Dakota | 3
Kansas | 3
Mississippi | 2
Louisiana | 2
Tennessee | 2
North Carolina | 2
Kentucky | 2
Michigan | 2
North Dakota | 2
Wisconsin | 2
Maryland | 1
Virginia | 1
Georgia | 1
South Carolina | 1
Alabama | 1
Delaware | 1
Texas | 1
Pennsylvania | 1
Oklahoma | 1
New Jersey | 1
Eastern Region (New York, Massachusetts, Connecticut, Florida, Rhode Island, Vermont, New Hampshire, Maine, West Virginia, District of Columbia, and Puerto Rico | 1
Western Region (Montana, Wy-oming, Colorado, New Mexico, Idaho, Utah, Arizona, Wash-ington, Oregon, Nevada, California, Hawaii, and Alaska) | 1

* * * * *

Dated: October 19, 2000.
Barry L. Carpenter,
Deputy Administrator, Livestock and Seed Program.

[FR Doc. 00-27411 Filed 10-24-00; 8:45 am]

BILLING CODE 3410-02-P